ENVIRONMENTAL PROTECTION AGENCY

40 CFR Part 52

[EPA-R05-OAR-2019-0302, EPA-R05-OAR-2019-0676; FRL-10011-35-Region 5]

Air Plan Approval; Ohio; Volatile Organic Compounds

AGENCY: Environmental Protection Agency (EPA).

ACTION: Proposed rule.

SUMMARY: Under the Clean Air Act (CAA), the Environmental Protection Agency (EPA) is proposing to approve an April 5, 2019, State Implementation Plan (SIP) submittal from the Ohio Environmental Protection Agency (OEPA). This SIP submittal, supplemented on November 21, 2019, consists of amendments and additions to the volatile organic compound (VOC) rules in Chapter 3745-21 of the Ohio Administrative Code (OAC). These changes provide clarity to facilities that are subject to multiple VOC requirements in the SIP, or whose applicable requirements have been moved to other sections within OAC Chapter 3745-21 as a result of a previous revision. The changes also correct errors and provide general administrative cleanup. The SIP submittal adds a mechanism for Ohio to approve alternate limitations for site-specific miscellaneous industrial adhesive and sealant facilities and includes alternate site-specific limitations for certain process lines at Accel Group, Incorporated (Accel) in Wadsworth, Ohio. In addition, an alternative monitoring, recordkeeping, and reporting program was added to the requirements for the BP-Husky Refining LLC, Toledo Refinery.

DATES: Comments must be received on or before August 21, 2020.

ADDRESSES: Submit your comments, identified by Docket ID Nos. EPA-R05-OAR-2019-0302 (pertaining to amendments to OAC Chapter 3745-21) or EPA-R05-OAR-2019-0676 (pertaining to site-specific alternate VOC SIP limits for Accel) at http://www.regulations.gov, or via email to compher.michael@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Anthony Maietta, Environmental Protection Specialist, Control Strategies Section, Air Programs Branch (AR-18J), Environmental Protection Agency, Region 5, 77 West Jackson Boulevard, Chicago, Illinois 60604, (312) 353-8777, maietta.anthony@epa.gov. The EPA Region 5 office is open from 8:30 a.m. to 4:30 p.m., Monday through Friday, excluding Federal holidays and facility closures due to COVID-19.

SUPPLEMENTARY INFORMATION: Throughout this document whenever “we,” “us,” or “our” is used, we mean EPA. This supplementary information section is arranged as follows:

I. What is the background for this action?

II. What is EPA's analysis of the amendments to OAC Chapter 3745-21?

III. Site-Specific VOC SIP Limits for Accel

IV. What action is EPA taking?

V. Incorporation by Reference.

VI. Statutory and Executive Order Reviews.

I. What is the background for this action?

Ohio's April 5, 2019, submittal requested that EPA approve amendments and additions to OAC Chapter 3745-21, specifically to Rules 3745-21-09, 3745-21-10, 3745-21-25, 3745-21-26, 3745-21-28, and 3745-21-29. On November 21, 2019, Ohio supplemented its submittal with an additional request to incorporate site-specific VOC limits for Accel. EPA has reviewed the amendments contained in both submittals, as discussed in detail in the following sections, and is proposing to approve the amended portions of OAC Chapter 3745-21 as well as the site-specific VOC limits for Accel into the Ohio SIP.

II. What is EPA's analysis of the amendments to OAC Chapter 3745-21?

The amendments to OAC Chapter 3745-21 are as follows:

Rule 3745-21-09 “Control of Emissions of Volatile Organic Compounds From Stationary Sources and Perchloroethylene From Dry Cleaning Facilities”

OEPA made several amendments to this rule. A correction was made to a variable definition in the equation in paragraph (C)(1)(a)(11), and the entire equation graphic was replaced with a text version of the equation. This administrative amendment is approvable because it supports Ohio's initiative to reduce the amount of graphics in its regulations in favor of a more accessible format for the visually impaired.

Paragraphs (A), (U), and (HH) were amended to consolidate the VOC regulation requirements for facilities in the Cleveland area into a new rule within OAC Chapter 3745-21, namely, Rule 3745-21-26. In a prior action (82 FR 42451), EPA approved the addition of Rule 3745-21-26 into the Ohio SIP. Rule 3745-21-26 replaced the requirements of Rule 3745-21-09 paragraphs (U) and (HH) for facilities in the Cleveland area (Ashtabula, Cuyahoga, Geauga, Lake, Lorain, Medina, Portage, and Summit counties). As a result, all references to Cleveland-area facilities in paragraph (U) were removed from the applicability criteria in Rule 3745-21-09 paragraphs (A)(1) and (A)(3)(b).

Rule 3745-21-09 paragraph (A)(6) was also amended to remove references to paragraph (HH) and to clarify the relocation of Cleveland-area facilities' requirements to Rule 3745-21-26. These amendments are approvable because they help clarify the requirements which need to be met for Cleveland-area facilities and remove any confusion for facilities in the rest of the state that need to follow the requirements of Rule 3745-21-09.

Several changes to paragraph (U) of Rule 3745-21-09 are a result of the additions to Rule 3745-21-26. The introductory paragraph to (U) was removed and references to Ashtabula, Cuyahoga, Geauga, Lake, Lorain, Medina, Portage, and Summit counties were removed from paragraph (U)(2)(e)(ii). Paragraphs (U)(2)(k) and (U)(2)(l) were removed because the specific exemptions for Cleveland-area facilities that are also subject to aerospace and shipbuilding/ship repair coating VOC regulations were moved to Rule 3745-21-26 for Cleveland-area facilities (to 3745-21-26(A)(3)(a)(i)(a) and 3745-21-26(A)(3)(a)(i)(b), respectively).

In paragraph (C), which contains requirements for surface coating of automobiles and light duty trucks, an exemption was added for aerosol coatings, because the requirements for these coatings are addressed by the national VOC rule for aerosol coatings (40 CFR part 59 subpart E), as required by section 183(e) of the CAA. An exemption was added to paragraph (C) for coatings supplied in containers with a net volume of 16 ounces or less, or a net weight of one pound or less. This exemption is consistent with the 2008 control techniques guidelines (CTG) document (EPA-453/R-08-006) for automobile and light-duty truck assembly coatings, and therefore EPA finds the amendment approvable into the Ohio SIP.

An alternate monitoring, recordkeeping, and reporting program for Process Drains at BP-Husky Refining LLC, Toledo Refinery, Facility ID 04-48-02-0007 and dated November 23, 2015, has been added to paragraph (T)(4) of this rule. The alternate monitoring, recordkeeping, and reporting program was approved by Ohio. EPA finds that Ohio's program provides a suitable alternative means of assuring compliance at this facility because it is consistent with EPA's New Source Performance Standards requirements for performance tests at bulk terminals at 40 CFR part 60, subpart QQQ.

Lastly, paragraph (DDD)(4)(g)(i)(b)(iii) of this rule was amended to correct an incorrect paragraph reference. EPA finds that this and the aforementioned amendments to OAC Chapter 3745-21 approvable into the Ohio SIP, as the changes either make the requirements clearer, correct errors within the requirements, or provide facilities with alternate programs to maintain adherence to the CAA.

Rule 3745-21-10 “Compliance Test Methods and Procedures”

A test method for reactive adhesives located at 40 CFR part 63, subpart PPPP, appendix A, has been added to paragraph (B)(4) of this rule. EPA finds that this Federal test method is approvable into the Ohio SIP because the test method meets EPA's 2008 Control Techniques Guidelines for reactive adhesives. Paragraph (E)(2) was amended to remove extraneous language so that it is clear the requirements of 40 CFR 60.503(b), (c), (e), and (f) are sufficient to determine the amount of VOC emissions from bulk gasoline terminals. The language removed from paragraph (E)(2) provided additional methodology for testing for bulk gasoline terminals, but the methodology was less stringent than the new source performance standards for bulk gasoline terminals which remain in the Ohio SIP, therefore EPA finds that the removal of the extraneous language is approvable into the Ohio SIP.

Rule 3745-21-25 “Control of VOC Emissions From Reinforced Plastic Composites Production Operations”

Paragraph (F)(3) of this rule contains three subparagraphs, each containing a method to calculate a reinforced plastic composites production facility's VOC emissions threshold. However, the language in paragraph (F)(3) originally indicated that only two of the three methods may be used to calculate the VOC emissions threshold. Paragraph (F)(3) was amended to make clear that all three subparagraphs/methods can be used to calculate the threshold. Because it clarifies the requirements, EPA finds that this amendment is approvable into the Ohio SIP.

Rule 3745-21-26 “Surface Coating of Miscellaneous Metal and Plastic Parts”

Paragraph (A)(3)(a)(i)(p) of this rule was amended to include an exemption for surface coating of any metal or plastic parts or products for which the owner or operator is both subject to and required to comply with Rule 3745-21-25 “Control of VOC emissions from reinforced plastic composites production operations.” The miscellaneous metal products and plastic parts categories do not include gel coats applied to fiber-reinforced plastic composites products which are removed from a mold or used as in-mold coatings in the production of fiberglass parts. Those composite products' VOC limits are instead specified in Rule 3745-21-25, therefore EPA finds that this amendment is approvable into the Ohio SIP.

Paragraph (G)(2) was amended to remove introductory language that, while technically correct in identifying paragraphs with relevant reporting and recordkeeping requirements for surface coating of miscellaneous metal and plastic parts, is superfluous and potentially confusing regarding the requirements of this chapter. Therefore, the introductory language, “In addition to paragraphs (B)(3)(j) and (B)(3)(k) of Chapter 3745-21-09 of the Administrative Code” has been removed. EPA finds that this amendment to the Ohio SIP is approvable because paragraph (G)(2) already comprehensively points to all relevant reporting and recordkeeping requirements. Lastly, paragraph (G)(1) was amended to correct a typographical error, and is approvable into the Ohio SIP.

Rule 3745-21-28 “Miscellaneous Industrial Adhesives and Sealants”

This rule was amended to add paragraph (C)(4), which allows a facility to request Ohio to approve an alternative reasonably available control technology (RACT) emissions limit for production of miscellaneous industrial adhesives and sealants. This amendment is approvable because the conditions of the paragraph include the existing Ohio authority to approve alternate RACT emissions limits for these facilities, and also require a facility to obtain a federally-enforceable permit and EPA's approval of the alternate RACT emissions limit. Ohio does not need to have such a paragraph in the SIP for site-specific alternative RACT limit requests and approval because authority for such limits already exists. However, because the paragraph makes clearer the conditions which must be met for a facility to request an alternative RACT limit, EPA finds this paragraph approvable into the Ohio SIP.

Rule 3745-21-29 “Control of Volatile Organic Compound Emissions From Automobile and Light-Duty Truck Assembly Coating Operations, Heavier Vehicle Assembly Coating Operations, and Cleaning Operations Associated With These Coating Operations”

Paragraph (F)(2) of this rule was amended to correct a reference to 40 CFR part 63, subpart PPPP, which outlines the procedure for determining the VOC content of a reactive adhesive. The amendment now references appendix A of 40 CFR part 63, subpart PPPP, which is the correct location of the reactive adhesive VOC content determination procedure. The amendment is approvable into the Ohio SIP.

III. Site-Specific VOC SIP Limits for Accel

On November 21, 2019, Ohio submitted a supplement to its April 5, 2019 submittal that includes a request for EPA to approve site-specific alternate VOC SIP limits of 4.98 pounds per gallon (lb/gal) and 65 tons per year (tpy) for Accel in the facility's operating permit. Ohio requested that EPA process this revision in parallel with the revisions to Rule 3745-21-28(c)(4), which is discussed in Section II. The limits are an alternative to the facility meeting the 2.1 lb/gal contact bond adhesive VOC limit in Rule 3745-21-28(c)(1).

Ohio reviewed multiple factors in its approval of site-specific alternate VOC SIP limits for the Accel facility. Among them, Ohio indicates that Accel had reviewed several options for meeting the 2.1 lb/gal contact bond adhesive VOC limit, and provided an adequate technological and financial demonstration for why meeting the 2.1 lb/gal limit is infeasible. Accel demonstrated that the custom blended adhesive that was used to meet the contact bond adhesive VOC limit was discontinued, and that attempts to recreate the blend with other available components did not produce adhesive that would remain soluble enough to adequately perform the same task as the now-unavailable custom blend. Further, available adhesives that meet the 2.1 lb/gal VOC limit are not post-formable, which is a requirement for the facility.

Accel also pursued changing the facility's production lines to use hot melt type adhesives. Using the control costs spreadsheet from EPA's Office of Air Quality Planning and Standards, Accel demonstrated that the cost to meet the existing contact bond adhesive limit versus the alternate site-specific limits using hot melt type adhesives would be $12,740/ton versus $1,050/ton, respectively. Further, Accel explained that even if the facility were to make such a fiscally unfeasible change, it is not known whether the new adhesive would create products that meet its customers' specifications.

Ohio indicated that there are no facilities similar to Accel in Ohio subject to Rule 3745-21-28. For that reason and the reasons demonstrated by Accel, Ohio approved 4.98 lb/gal and 65 tpy VOC limits for the facility into Accel's operating permit on September 16, 2019 and Ohio did not receive any comments on the action during its public comment period. The site-specific VOC limits for Accel are located in the following paragraphs of its September 16, 2019 permit:

—Section B “Facility-wide Terms and Conditions”, paragraphs B.4, B.6, B.8, and B.9.c).

—Section C “Emissions Unit (EU) Terms and Conditions”, paragraphs C.1.b)(1)d, C.1.b)(2)a, C.1.d)(2), C.1.d)(3), C.1.e)(3), C.1.f)(1)c, C.2.b)(1)d, C.2.b)(2)a, C.2.d)(2), C.2.d)(3), C.2.e)(3), and C.2.f)(1)e.

As noted in section II of this action, Ohio has the authority in its VOC SIP to allow site-specific alternate VOC SIP limits. OEPA has confirmed that the Type II adhesives limits will remain enforceable as part of the SIP for as long as the company keeps the permit active, and if the permit expires the limits revert to the more stringent 2.1 lb/gal contact bond adhesive VOC limit in OAC 3745-21-28(c)(1). EPA's proposed approval is based on OPEA's confirmation that “[s]hould the company allow the permit to expire, or request a change in the federally approved limits or associated terms, they will lose their authority to operate the emissions unit under those limits and will be required to begin permitting again from scratch, including petitioning USEPA for a new, federally enforceable alternate limit.”

The revisions to Rule 3745-21-28(c)(4) and the site-specific alternate VOC SIP limits for Accel discussed above are approvable as they both clarify site-specific limits for affected sources and what steps that sources, Ohio, and EPA will take when approving and incorporating such limits into the Ohio SIP. EPA finds these revisions approvable into the Ohio SIP.

IV. What action is EPA taking?

EPA is proposing to approve the revisions to OAC Chapter 3745-21, specifically to Rules 3745-21-09, 3745-21-10, 3745-21-25, 3745-21-26, 3745-21-28, and 3745-21-29 as contained in Ohio's April 5, 2019, submittal. EPA is also proposing to approve the addition of paragraphs B.4, B.6, B.8, B.9.c), C.1.b)(1)d, C.1.b)(2)a, C.1.d)(2), C.1.d)(3), C.1.e)(3), C.1.f)(1)c, C.2.b)(1)d, C.2.b)(2)a, C.2.d)(2), C.2.d)(3), C.2.e)(3), and C.2.f)(1)e as listed in the September 19, 2019 operating permit for Accel into Ohio's SIP.

V. Incorporation by reference.

In this rule, EPA is proposing to include in a final EPA rule regulatory text that includes incorporation by reference. In accordance with requirements of 1 CFR 51.5, EPA is proposing to incorporate by reference the following rules in Ohio Administrative Code Chapter 3745-21: Rules 3745-21-09, 3745-21-10, 3745-21-25, 3745-21-26, 3745-21-28, and 3745-21-29, effective February 16, 2019, discussed in Section II of this action, and certain provisions of the Division of Air Pollution Control Permit-to-Install and Operate for Accel Group, Inc., effective September 19, 2019, discussed in Section III of this action. EPA has made, and will continue to make, these documents generally available through www.regulations.gov and at the EPA Region 5 Office (please contact the person identified in the FOR FURTHER INFORMATION CONTACT section of this preamble for more information).

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Reporting and recordkeeping requirements, Volatile organic compounds.

Dated: July 7, 2020.
Kurt Thiede,
Regional Administrator, Region 5.

[FR Doc. 2020-15016 Filed 7-21-20; 8:45 am]

BILLING CODE 6560-50-P